CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled the Financial Management Survey (FMS) form to the Office of Management and Budget (OMB) for review and approval in accordance with the Paperwork Reduction Act of 1995, Pub. L. 104-13, (44 U.S.C. Chapter 35). Copies of this ICR, with applicable supporting documentation, may be obtained by calling the Corporation for National and Community Service, Mrs. Peg Rosenberry at (202) 606-5000, ext. 124. Individuals who use a telecommunications device for the deaf (TTY-TDD) may call (202) 565-2799 between 8:30 a.m. and 5 p.m. eastern time, Monday through Friday.

ADDRESSES: Comments may be submitted, identified by the title of the information collection activity, to the Office of Information and Regulatory Affairs, Attn: Ms. Katherine Astrich, OMB Desk Officer for the Corporation for National and Community Service, by any of the following two methods within 30 days from the date of publication in this Federal Register:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on February 10, 2004. This comment period ended April 12, 2004. No public comments were received from this notice.

Description: The Corporation is seeking approval of the Financial Management Survey form which will be used by the Grants Management Specialist in the Office of Grants Management in order to assess the capacity of potential grantees to manage federal funds.

The Financial Management Survey form must be completed as pre-award assessment tool for potential grantees to address questions about its organization type, financial systems, how it manages funds, and internal controls to proper administer federal funds. This form is used to determine the specific areas of its financial management to manage federal funds and become the basis for determining the areas of the organization's financial systems that may warrant technical assistance.

Type of Review: New Information collection.

Agency: Corporation for National and Community Service.

Title: Financial Management Survey Form.

OMB Number: None.

Agency Number: None.

Affected Public: First-time grantees or current grantees re-competing for funding.

Total Respondents: 35 annually.

Frequency: One (1) time.

Average Time Per Response: 30 minutes.

Estimated Total Burden Hours: 17.5 hours.

Total Burden Cost (capital/startup): None.

Total Burden Cost (operating/maintenance): None.

Dated: November 19, 2004.
Douglas Gerry,
Acting Director of the Office of Grants Management.

[FR Doc. 04-26326 Filed 11-26-04; 8:45 am]

BILLING CODE 6050-$$-P